DEPARTMENT OF AGRICULTURE

Rural Utilities Service

Basin Electric Power Cooperative; Notice of Finding of No Significant Impact

AGENCY: Rural Utilities Service, USDA.

ACTION: Notice of finding no significant impact.

SUMMARY: Notice is hereby given that the Rural Utilities Service (RUS), pursuant to the National Environmental Policy Act of 1969, as amended, the Council on Environmental Quality regulations (40 CFR parts 1500-1508), and RUS Environmental Policies and Procedures (7 CFR part 1794), has made a finding of no significant impact (FONSI) with respect to a wind energy project proposed by Basin Electric Power Cooperative (Basin Electric) of Bismarck, North Dakota, and East River Electric Power Cooperative (East River) of Madison, South Dakota. The wind facility will be constructed in Brule County, South Dakota and will consist up to three 1.3 MW wind turbine generators. Power produced by the facility will be transmitted via underground line to the existing Hilltop Substation owned by the East River Electric. RUS may provide financial assistance to Basin Electric for this project.

RUS has concluded that the impacts of the proposed project would not be significant and the proposed action is not a major federal action significantly affecting the quality of the human environment. Therefore, the preparation of an environmental impact statement is not necessary.

FOR FUTHER INFORMATION CONTACT: Nurul Islam, Environmental Protection Specialist, Rural Utilities Service, Engineering and Environmental Staff, Stop 1571, 1400 Independence Avenue, SW., Washington, DC 20250-1571, telephone: (202) 720-1414, e-mail: nislam@rus.usda.gov. Information is also available from Mr. James A. Berg, Water Quality/Waste Management Coordinator, Basin Electric Power Cooperative, 1717 East Interstate Avenue, Bismarck, North Dakota 58501, telephone (701) 223-0441. His e-mail address is: jberg@bepc.com.

SUPPLEMENTARY INFORMATION: RUS, in accordance with its environmental policies and procedures, required that Basin Electric prepare an Environmental Analysis reflecting the potential impacts of the proposed facilities. The Environmental Analysis, which includes input from federal, state, and local agencies, has been reviewed and accepted as RUS’ Environmental Assessment (EA) for the project in accordance with 7 CFR 1794.41. The proposed project will consist of constructing up to three 1.3 MW wind turbine generators. All three turbines would be located on a 160-acre quarter section of land that has been designated to build the facility. Electric power produced from the turbine will be delivered to the existing Hilltop Substation of East River Electric via 12.47 kV underground feeder. The underground feeder line from the turbine site to the East River Hilltop Substation would be approximately 2.25 miles.

The total amount of farmland that would be converted to non-agricultural use would be about 1.56 acres including access roads. The nearest airport, the Chamberlain Airport, is located approximately five miles south of Site B (preferred site). The Federal Aviation Administration has determined that the proposed facility will not pose any hazards to air navigation. The South Dakota Department of Transportation, Aeronautics Commission, has issued a permit to build three wind turbines. Therefore, the construction of the proposed project is not in conflict with any other intended land uses in the area. There are no floodplains or wetlands in the vicinity of the project location; therefore, no impact is anticipated. The bald eagle, a threatened species, and the whooping crane, an endangered species may inhabit or migrate through the project area. No construction shall occur within 0.25 mile of any known active bald eagle nests. The whooping crane is considered to be primarily a migrant through the area, and is not anticipated to be affected by the proposed project. East River Electric will follow the mitigation measures proposed by the US Fish and Wildlife Service. Therefore, RUS has determined that no threatened or endangered species would be likely to be impacted by the proposed construction. A Phase I cultural resources survey was performed for two locations for the proposed wind turbine project. The survey found no eligible sites. State Historic Preservation Officer (SHPO) has concurred with the findings in their letter dated April 2, 2001. Basin Electric has agreed to continue consultation with the Yankton Sioux Tribe and the Lower Brule Sioux Tribe as the project progresses. RUS believes the project will have no impact on cultural and historic properties due to construction of the proposed project. The project is approved contingent on the following condition: if archaeological remains are discovered during construction activities, the work shall be stopped and the SHPO and RUS notified immediately. The project site is outside of the view shed of any public facilities. There are two residences to the north and east within one mile of the proposed site. It is estimated that the operational-related noise level at the nearest residence would be approximately 37 bBA. This noise level is below the acceptable federal standard. Based on this information RUS has determined that no adverse impacts are anticipated due to noise level produced during the operation of the proposed project.

Basin Electric published notices of the availability of the EA and solicited public comments per 7 CFR 1792.42. Notices of availability of EA were published in the Central Dakota Times, Chamberlain, South Dakota and the Chamberlain-Oacoma Register, Chamberlain, South Dakota for a 30-day comment period. The 30-day comment period on the EA for the proposed wind facility project ended September 7, 2001. No comments were received on the EA.

Based on the EA, RUS has concluded that the proposed action will not have a significant effect to various resources, including important farmland, floodplains, wetlands, cultural resources, threatened and endangered species and their critical habitat, and noise. RUS has also determined that there would be no negative impacts of the proposed project on minority communities and low-income communities as a result of the construction of the project.

The EA and the FONSI are available for public review at the following locations:

Basin Electric Power Cooperative, 1717 East Interstate Avenue, Bismarck, North Dakota 58501, Phone: (701) 223-0441

East River Electric Power Cooperative, 121 Southeast 1st Street, Madison, South Dakota 57042, Phone: (605) 256-4536

Central Electric Power Cooperative, 1420 North Main, Mitchell, South Dakota 57301, Phone: (605) 996-6516

Cozard Memorial Library, 110 East Laeler Avenue, Chamberlain, South Dakota 57325, Phone: (605) 734-4414

U.S. Department of Agriculture, Rural Utilities Service, Engineering & Environmental Section, 1400 Independence Avenue, SW., Room 2240, Washington, DC 20250-1571, Phone: (202) 720-1414

Dated: October 10, 2001.
Alfred Rodgers,
Acting Assistant Administrator, Electric Program, Rural Utilities Service.

[FR Doc. 01-25948 Filed 10-15-01; 8:45 am]

BILLING CODE 3410-15-P